DEPARTMENT OF COMMERCE

International Trade Administration

[A-549-846]

Boltless Steel Shelving Units Prepackaged for Sale From Thailand: Amended Preliminary Determination of Sales at Less-Than-Fair-Value

AGENCY: Enforcement and Compliance, International Trade Administration, Department of Commerce.

SUMMARY: The U.S. Department of Commerce (Commerce) is amending the preliminary affirmative determination of sales at less-than-fair-value on boltless steel shelving units prepackaged for sale (boltless steel shelving) from Thailand to correct a significant ministerial error.

DATES: Applicable January 2, 2024.

FOR FURTHER INFORMATION CONTACT: Fred Baker, AD/CVD Operations, Office VI, Enforcement and Compliance, International Trade Administration, U.S. Department of Commerce, 1401 Constitution Avenue NW, Washington, DC 20230; telephone: 202-482-6274.

SUPPLEMENTARY INFORMATION:

Background

On November 29, 2023, Commerce published its preliminary affirmative determination in the less-than-fair-value investigation of boltless steel shelving from Thailand.¹ On December 4, 2023, we received a timely ministerial error allegation from Siam Metal Tech Co., Ltd. (Siam Metal) that Commerce made significant ministerial errors in the Preliminary Determination with respect to the calculation of Siam Metal's weighted-average dumping margin.² We are amending our preliminary determination to find that subject merchandise is not being, or is not likely to be, sold in the United States by Siam Metal at less than fair value (LTFV).

¹ See Boltless Steel Shelving Units Prepackaged for Sale from Thailand: Preliminary Affirmative Determination of Sales at Less Than Fair Value, Postponement of Final Determination, and Extension of Provisional Measures, 88 FR 83389 (November 29, 2023) (Preliminary Determination), and accompanying Preliminary Decision Memorandum.

² See Siam Metal's Letter, “Ministerial Error Comments,” dated December 4, 2023 (Siam Metal Ministerial Comments).

Period of Investigation

The period of investigation (POI) is April 1, 2022, through March 31, 2023.

Scope of the Investigation

The products covered by this investigation are boltless steel shelving units prepackaged for sale from Thailand. For a complete description of the scope of this investigation, see appendix.

Analysis of Significant Ministerial Error Allegation

Commerce will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ³ A significant ministerial error is defined as a ministerial error, the correction of which, singly or in combination with other errors, would result in: (1) a change of at least five absolute percentage points in, but not less than 25 percent of, the weighted average dumping margin calculated in the original (erroneous) preliminary determination; or (2) a difference between a weighted-average dumping margin of zero (or de minimis) and a weighted-average dumping margin greater than de minimis, or vice versa.⁴

³ See section 735(e) of the Tariff Act of 1930, as amended (the Act).

⁴ See 19 CFR 351.224(g).

Amended Preliminary Determination

Pursuant to 19 CFR 351.224(e) and (g)(1), Commerce is amending the Preliminary Determination to reflect the correction of a ministerial error made in the calculation of the weighted-average dumping margin for Siam Metal.⁵ Specifically, when calculating the costs, we inadvertently used the incorrect “Affiliated COP” and percentage of cost of manufacturing figures in applying the major input analysis. Commerce finds that this ministerial error is a significant error within the meaning of 19 CFR 351.224(g), because correction of this error decreases Siam Metal's weighted-average dumping margin from 7.58 percent to 1.40 percent, which is a change that is at least five absolute percentage points in, but not less than 25 percent of, the weighted-average dumping margin calculated in the original (erroneous) preliminary determination; furthermore, the weighted-average dumping margin in the original Preliminary Determination was greater than de minimis, while the corrected weighted-average dumping margin is de minimis for Siam Metal. As such, in this amended preliminary determination, we find that Siam Metal is not, or is not likely to, make sales of subject merchandise at LTFV. As Siam Metal's amended preliminary weighted-average margin is de minimis, we are also amending the all-others rate. Consistent with section 735(c)(5)(A) of the Act, the all-others rate will be equivalent to the rate calculated in the Preliminary Determination for Bangkok Sheet Metal Public Co. (Bangkok Sheet Metal), which is 2.54 percent. For a complete discussion of the alleged ministerial errors, see the Preliminary Ministerial Error Analysis Memo.

⁵ See Memorandum, “Allegation of Ministerial Errors in the Preliminary Determination,” dated concurrently with this notice (Preliminary Ministerial Error Analysis Memo).

Amended Preliminary Determination

As a result of correcting this ministerial error, Commerce determines the following estimated weighted-average dumping margins exits:

Exporter | Producer | Weighted-average dumping margin (percent)
Siam Metal | Siam Metal | 1.40 (de minimis).
Bangkok Sheet Metal Public Co | Bangkok Sheet Metal Public Co | 2.54.
All-others rate | 2.54.

Amended Cash Deposits and Suspension of Liquidation

The collection of cash deposits and suspension of liquidation will be revised according to the rates calculated in this amended preliminary determination, in accordance with section 773(d) of the Act. Because we are now making a negative determination of sales at LTFV for Siam Metal, we will instruct U.S. Customs and Border Protection (CBP) to discontinue the suspension of liquidation of entries of subject merchandise made by Siam Metal and to liquidate all suspended entries without regard to antidumping duties. Because the all-others rate decreased as a result of this amended preliminary determination, the all others rate will be effective retroactively to November 29, 2023, the date of publication of the Preliminary Determination. We will also instruct CBP to issue a refund of the difference between the amount of cash deposits paid as a result of the application of the original Preliminary Determination cash deposit rates and the revised amounts due as a result of the amended preliminary determination.

Disclosure

We intend to disclose the calculations performed to parties in this proceeding within five days after public announcement of the amended preliminary determination, in accordance with 19 CFR 351.224(b).

International Trade Commission Notification

In accordance with section 733(f) of the Act, Commerce will notify the U.S. International Trade Commission of our amended preliminary determination.

Notification to Interested Parties

This amended preliminary determination is issues and published pursuant to sections 773(d) and 777(i) of the Act and 19 CFR 351.224(e).

Dated: December 22, 2023.
James Maeder,
Deputy Assistant Secretary for Antidumping and Countervailing Duty Operations.

Appendix—Scope of the Investigation

The scope of this investigation covers boltless steel shelving units prepackaged for sale, with or without decks (boltless steel shelving). The term “prepackaged for sale” means that, at a minimum, the steel vertical supports (i.e., uprights and posts) and steel horizontal supports (i.e., beams, braces) necessary to assemble a completed shelving unit (with or without decks) are packaged together for ultimate purchase by the end-user. The scope also include add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts, or screws. The vertical and horizontal support members for boltless steel shelving are assembled by methods such as, but not limited to, fitting a rivet, punched or cut tab, or other similar connector on one support into a hole, slot or similar receptacle on another support. The supports lock together to form the frame for the shelving unit, and provide the structural integrity of the shelving unit separate from the inclusion of any decking. The incidental use of nuts and bolts, or screws to add accessories, wall anchors, tie-bars or shelf supports does not remove the product from scope. Boltless steel shelving units may also come packaged as partially assembled, such as when two upright supports are welded together with front-to-back supports, or are otherwise connected, to form an end unit for the frame. The boltless steel shelving covered by these investigations may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of: (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• Wall-mounted shelving, defined as shelving that is hung on the wall and does not stand on, or transfer load to, the floor. The addition of a wall bracket or other device to attach otherwise freestanding subject merchandise to a wall does not meet the terms of this exclusion;

• Wire shelving units, which consist of shelves made from wire that incorporates both a wire deck and wire horizontal supports (taking the place of the horizontal beams and braces) into a single piece with tubular collars that slide over the posts and onto plastic sleeves snapped on the posts to create the finished shelving unit;

• Bulk-packed parts or components of boltless steel shelving units; and

• Made-to-order shelving systems.

Subject boltless steel shelving enters the United States through Harmonized Tariff Schedule of the United States (HTSUS) statistical subheading 9403.20.0075. While the HTSUS subheading is provided for convenience and customs purposes, the written description of the scope of this investigation is dispositive.

[FR Doc. 2023-28824 Filed 12-29-23; 8:45 am]

BILLING CODE 3510-DS-P